DEPARTMENT OF LABOR

Office of the Secretary

Agency Information Collection Activities; Submission for OMB Emergency Review: Comment Request; Baseline Information for Green Jobs and Health Care Impact Evaluation of ARRA-Funded Grants

ACTION: Notice.

SUMMARY: The Department of Labor (DOL) has submitted the Employment and Training Administration (ETA) sponsored information collection request (ICR) titled, “Baseline Information for Green Jobs and Health Care Impact Evaluation of ARRA-funded Grants,” to the Office of Management and Budget (OMB) for review and clearance utilizing emergency review procedures in accordance with the Paperwork Reduction Act of 1995 (Pub. L. 104-13, 44 U.S.C. Chapter 35) and 5 CFR 1320.13. OMB approval has been requested by June 1, 2011.

DATES: Submit comments on or before May 31, 2011.

ADDRESSES: A copy of this ICR with applicable supporting documentation; including a description of the likely respondents, proposed frequency of response, and estimated total burden may be obtained from the RegInfo.gov Web site, http://www.reginfo.gov/public/do/PRAMain or by contacting Michel Smyth by telephone at 202-693-4129 (this is not a toll-free number) or sending an e-mail to DOL_PRA_PUBLIC@dol.gov.

Submit comments about this request to the Office of Information and Regulatory Affairs, Attn: OMB Desk Officer for the Department of Labor, Employment and Training Administration (ETA), Office of Management and Budget, Room 10235, Washington, DC 20503, Telephone: 202-395-6929/Fax: 202-395-6881 (these are not toll-free numbers), e-mail: OIRA_submission@omb.eop.gov.

FOR FURTHER INFORMATION CONTACT: Contact Michel Smyth by telephone at 202-693-4129 (this is not a toll-free number) or by e-mail at DOL_PRA_PUBLIC@dol.gov.

SUPPLEMENTARY INFORMATION: The proposed baseline information collection is preparation for an evaluation of the Green Jobs and Health Care (GJHC) training grants. The ETA sponsors the GJHC grant program for worker training and placement in high growth and emerging industries through training grants, including the Pathways Out of Poverty (POP) and Health Care and High Growth (HHG) grants.

The overall aim of this evaluation is to determine the extent to which enrollees achieve increases in employment, earnings, and career advancement because of their participation in the training provided by POP and HHG grantees and to identify promising best practices and strategies for replication. Individuals enrolling in the GJHC training programs have a 50/50 chance of receiving these services. Those individuals not receiving the training services receive the existing services offered by the grantee. Education, employment, and other outcomes of the two groups will be compared over time to evaluate the GJHC training grant impact. The evaluation will estimate the success in providing educational and occupational skills training that fosters entry into job fields that are innovative and/or experiencing high growth, as in health care industry.

Interested parties are encouraged to send comments to the OMB, Office of Information and Regulatory Affairs at the address shown in the ADDRESSES section. In order to help ensure appropriate consideration, comments should reference OMB ICR Reference Number 201105-1205-002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New collection of information (Request for new Control Number).

Agency: Employment and Training Administration (ETA).

Title of Collection: Baseline Information for Green Jobs and Health Care Impact Evaluation of ARRA-funded Grants.

Requested Duration of Authorization: Six months from approval.

OMB ICR Reference Number: 201105-1205-002.

Frequency of Collection: Once.

Affected Public: Individuals or households; State, Local, and Tribal governments.

Total Estimated Number of Respondents: 6024.

Total Estimated Annual Number of Responses: 12,000.

Total Estimated Annual Burden Hours: 2600.

Total Annualized Capital and Startup Costs: $0.

Total Annualized Operation and Maintenance Costs: $0.

Dated: May 16, 2011.
Michel Smyth,
Departmental Clearance Officer.

[FR Doc. 2011-12417 Filed 5-19-11; 8:45 am]

BILLING CODE 4510-30-P